INTERNATIONAL TRADE COMMISSION

[CORRECTED; Investigation No. 337-TA-934]

Certain Dental Implants: Notice of Correction Concerning Commission Final Determination of Violation of Section 337; Termination of Investigation; Issuance of Limited Exclusion Order

AGENCY: U.S. International Trade Commission.

ACTION: Correction of notice.

SUMMARY: Correction is made to the case caption indicated in notice 81 FR 26255-56 which was published on Monday, May 2, 2016. The caption should read as follows: Certain Dental Implants.

Dated: May 2, 2016.
Lisa R. Barton,
Secretary to the Commission.

[FR Doc. 2016-10622 Filed 5-5-16; 8:45 am]

BILLING CODE 7020-02-P